ENVIRONMENTAL PROTECTION AGENCY

[FRL-7245-4]

EPA Science Advisory Board, Notification of Public Advisory Committee Meetings; Metals Assessment Panel

Pursuant to the Federal Advisory Committee Act, Public Law 92-463, notice is hereby given of three conference call meetings of Metals Assessment Panel of the US EPA Science Advisory Board (SAB). These conference call meetings are preparatory for a face-to-face meeting to be held September 10-12 in or near Washington DC. Once the location is known, the face-to-face meeting will be the subject of a separate announcement. The Panel will hold conference calls on the dates and times noted below. All times noted are Eastern Time. All meetings are open to the public, however, seating is limited and available on a first come basis. For teleconference meetings, available lines may also be limited.

Important Notice: Documents that are the subject of SAB reviews are normally available from the originating EPA office and are not available from the SAB Office—information concerning availability of documents from the relevant Program Office is included below.

Background

The EPA Science Advisory Board (SAB, Board) announced in 67 FR 38957-38959, June 6, 2002 that it had been asked to undertake a review of EPA's draft Action Plan for the “Framework for Metals Assessment and Cross-Agency Guidance for Assessing Metals-Related Hazard and Risk.” The background, charge, and description of the review documents appear in the above referenced Federal Register notice and are also available at the SAB website (www.epa.gov/sab). The notice also included a call for nominations for members of the panel in certain technical expertise areas needed to address the charge and described the process to be used in forming the panel. A Short List of individuals from which the panel will be chosen has been posted at the SAB's website.

The following three teleconference meetings will be hosted out of Conference Room 6013, USEPA, Ariel Rios Building North, 1200 Pennsylvania Avenue, NW, Washington, DC 20004. The meetings are all open to the public, but, due to limited space, seating will be on a first-come basis. The SAB Staff encourages members of the public who plan to attend any or all of the three meetings in person to call a few days in advance of that meeting and to arrive at least 15 minutes before the scheduled start time so that the necessary building security requirements can be accommodated before the start of the meeting. The public may also attend the teleconference meetings via telephone, however, lines may be limited. For further information concerning the meetings or how to obtain the teleconference phone number, please contact the individuals listed at the end of this FR notice.

1. Metals Assessment Panel—August 8, 2002 Teleconference

The Metals Assessment Panel will meet on August 8, 2002 by teleconference from 2 p.m. to 4 p.m. Eastern Time.

Purpose of the Meeting—The purpose of this public teleconference meeting is to: (a) Discuss the charge and review materials provided to the Metals Assessment Panel; (b) to clarify any questions relating to the charge and the review materials; (c) to discuss specific charge assignments to the panelists; and (d) to clarify specific points of interest raised by the Panelists in preparation for the face-to-face meeting to be held on September 10-12, 2002.

See below for availability of review materials, the charge to the review panel, and contact information.

2. Metals Assessment Panel—August 15, 2002 Teleconference

The Metals Assessment Panel will meet on August 15, 2002 by teleconference from 2 p.m. to 4 p.m. Eastern Time.

Purpose of the Meeting—The purpose of this public teleconference meeting is to: (a) Hear invited presentations; (b) to hear public comment; (c) to provide an opportunity for panel discussion; and (d) to identify areas where the Panel would welcome additional input.

See below for availability of review materials, the charge to the review panel, and contact information.

3. Metals Assessment Panel—August 29, 2002 Teleconference

The Metals Assessment Panel will meet on August 29, 2002 by teleconference from 2 p.m. to 4 p.m. Eastern Time.

Purpose of the Meeting—The purpose of this public teleconference meeting is to: (a) Allow panelists to identify points they think should be addressed in the Panel's report; (b) provide other panelists with an opportunity to add to or correct those points; and (c) identify for the Agency and the Public any areas where the panel would welcome additional information or comment.

See below for availability of review materials, the charge to the review panel, and contact information.

FOR FURTHER INFORMATION CONTACT: Persons desiring information about public participation in the meetings identified above must contact Kathleen White, Designated Federal Officer, Metals Assessment Panel, USEPA Science Advisory Board (1400A), Suite 6450Z, 1200 Pennsylvania Avenue, NW, Washington, DC 20460; telephone/voice mail at (202) 564-4559; fax at (202) 501-0582; or via e-mail at white.kathleen@epa.gov. Requests for oral comments must be made in writing (e-mail, fax or mail) and received by Ms. White no later than noon Eastern Time on the following dates: for the August 8 teleconference call, requests must be received by August 1st; for the August 15 teleconference call, requests must be received by August 8; for the August 29 conference call, requests must be received by August 22.

The public is encouraged to provide written comments. Those who prefer to provide oral comments are encouraged to schedule them for August 15. The oral public comment period will be limited and divided among the speakers who register. Additional opportunities for public comment will be available at the face to face meeting to be held September 10-12. Registration is on a first come basis. Speakers who have been granted time on the agenda may not yield their time to other speakers. Speakers who are unable to register in time may provide their comments in writing.

Members of the public desiring additional information about the meeting locations or the call-in number for the teleconference before June 30, 2002, must contact Ms.Zisa Lubarov-Walton, Management Assistant, EPA Science Advisory Board (1400A), Suite 6450N, U.S. EPA, 1200 Pennsylvania Avenue, NW, Washington, DC 20460; telephone/voice mail at (202) 564-4537; fax at (202) 501-0582; or via e-mail at lubarov-walton.zisa@epa.gov

A copy of the draft agenda for each meeting will be posted on the SAB Website (www.epa.gov/sab) (under the AGENDAS subheading) approximately 10 days before that meeting.

Availability of Review Material—There is one primary document that is the subject of the review. The draft Metals Action Plan is available on the EPA Risk Assessment Forum's website: http://www.epa.gov/ncea/raf/rafpub.htm. The review document is also available electronically at the following site http://oaspub.epa.gov/eims/eimscomm.getfile?p_download_id=4580 For questions and information pertaining to the review documents, please contact Dr. Bill Wood (Mail Code 8601D), U.S. Environmental Protection Agency, Washington, DC 20460; tel. (202) 564-3358, e-mail: wood.bill@epa.gov. Dr. Wood will refer you to the appropriate contact for the particular issue of interest.

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting.

Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Access—Individuals requiring special accommodation at this meeting, including wheelchair access to the conference room, should contact Ms. White at least five business days prior to the meeting so that appropriate arrangements can be made.

General Information—Additional information concerning the Science Advisory Board, its structure, function, and composition, may be found on the SAB Website (http://www.epa.gov/sab) and in the Science Advisory Board FY2001 Annual Staff Report which is available from the SAB Publications Staff at (202) 564-4533 or via fax at (202) 501-0256.

Dated: July 9, 2002.
Robert Flaak,
Acting Deputy Director, EPA Science Advisory Board.

[FR Doc. 02-17691 Filed 7-12-02; 8:45 am]

BILLING CODE 6560-50-P